FEDERAL COMMUNICATIONS COMMISSION

[FR ID: 196007]

Privacy Act of 1974; System of Records

AGENCY: Federal Communications Commission.

ACTION: Notice of a modified system of records.

SUMMARY: The Federal Communications Commission (FCC, Commission, or Agency) proposes to modify an existing system of records, FCC/OMD-23, Cadapult Space Management Center (CSMS), subject to the Privacy Act of 1974, as amended. This action is necessary to meet the requirements of the Privacy Act to publish in the Federal Register notice of the existence and character of records maintained by the agency. The Commission uses this system to allocate the offices, workstations, and facility workstations for FCC employees and contractors following the FCC/National Treasury Union (NTEU) space assignment policy. This modification makes various necessary changes and updates, including formatting changes required by the Office of Management and Budget (OMB) Circular A-108 since its previous publication, the addition of six new routine uses, as well as the revision of three existing routine uses.

DATES: This modified system of records will become effective on January 10, 2024. Written comments on the routine uses are due by February 9, 2024. The routine uses in this action will become effective on February 9, 2024 unless comments are received that require a contrary determination.

ADDRESSES: Send comments to Brendan McTaggart, Federal Communications Commission (FCC), 45 L Street NE, Washington, DC 20554, or to privacy@fcc.gov.

FOR FURTHER INFORMATION CONTACT: Brendan McTaggart, (202) 418-1738, or privacy@fcc.gov (and to obtain a copy of the Narrative Statement and the Supplementary Document, which includes details of the modifications to this system of records).

SUPPLEMENTARY INFORMATION: This notice serves to update and modify FCC/OMD-23, as a result of various necessary changes and updates. The substantive changes and modifications to the previously published version of the FCC/OMD-23 system of records include:

1. Updating the language in the Security Classification to follow OMB guidance.

2. Updating the language in the Purposes section to be consistent with the language and phrasing currently used generally in the FCC's SORNs.

3. Modifying the language in the Categories of Individuals and Categories of Records to be consistent with the language and phrasing currently used in the FCC's SORNs.

4. Updating and/or revising language in the following routine uses (listed by current routine use number): (8) Congressional Inquiries; (9) Government-wide Program Management and Oversight; and (10) Breach Notification, the revision of which is required by OMB Memorandum No. M-17-12.

5. Adding the following new routine uses (listed by current routine use number): (4) Labor Relations; (5) Litigation; (6) Adjudication; (7) Law Enforcement and Investigation; (11) Assistance to Federal Agencies and Entities Related to Breaches, the addition of which is required by OMB Memorandum No. M-17-12; and (12) Non-Federal Personnel to allow contractors, vendors, grantees, or volunteers performing or working on a contract, grant, or cooperative agreement for the Federal Government to have access to needed information.

6. Updating the SORN to include the relevant National Archives and Records Administration (NARA) records schedules.

The system of records is also updated to reflect various administrative changes related to the system managers and system addresses; policy and practices for storage and retrieval of the information; administrative, technical, and physical safeguards; and updated notification, records access, and contesting records procedures.

SYSTEM NAME AND NUMBER:

FCC/OMD-23, Cadapult Space Management System (CSMS).

SECURITY CLASSIFICATION:

No information in the system is classified.

SYSTEM LOCATION:

Office of Managing Director (OMD), Federal Communications Commission (FCC), 45 L Street NE, Washington, DC 20554.

SYSTEM MANAGER(S):

Office of Managing Director (OMD), Federal Communications Commission (FCC), 45 L Street NE, Washington, DC 20554.

AUTHORITY FOR MAINTENANCE OF THE SYSTEM:

5 U.S.C. 301, 40 U.S.C. 468, 44 U.S.C. 3101, Executive Order 12411, Government Work Space Management Reforms, and the NTEU/FCC Basic Negotiated Agreement, Article 9, Employee Space and Facilities.

PURPOSE(S) OF THE SYSTEM:

The FCC uses the information in this information system for purposes that include, but are not limited to, the allocation of the offices, workstations, facility workspaces, and hoteling workspaces for FCC employees and contractors following the FCC/NTEU space assignment policy, as well as tracking workstation occupancy, vacancy, and utilization rates; evaluating bureau and office housing and realignments based on utilization and reorganizations; and calculating and documenting FCC bureau and office rent reporting. Additionally, in the event of an emergency, OMD staff uses information from this system to devise a “Reconstitution Plan” to create the space requirements for alternative work location(s) in other buildings to be used to relocate FCC employees and/or contractors.

CATEGORIES OF INDIVIDUALS COVERED BY THE SYSTEM:

The categories of individuals whose records are maintained in this system include, but are not limited to, FCC employees and contractors.

CATEGORIES OF RECORDS IN THE SYSTEM:

The records in this system include, but are not limited to, the name, organization (bureau/office/division), pay type, grade, supervisory status, bargaining unit status, workspace requirements, workspace location (office or workstation), and work telephone number for each employee or contractor.

RECORD SOURCE CATEGORIES:

Sources of records in this system include FCC employees and contractor; FCC information systems and applications used in the onboarding, offboarding, and reassignment processes; and diagrams and drawings.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows:

1. Emergency Response—A record on an individual in this system of records may be disclosed to emergency medical personnel, e.g., doctors, nurses, and/or paramedics, or to law enforcement officials in case of a medical or other emergency involving the FCC employee without the subsequent notification to the individual identified in 5 U.S.C. 552a(b)(8).

2. First Responders—A record from this system of records may be disclosed to law enforcement officials, Department of Homeland Security (DHS), Federal Emergency Management Agency (FEMA), Department of Defense (DOD), National Telecommunications and Information Administration (NTIA), White House Communications Agency (WHCA), other federal agencies, and state and local emergency response officials, e.g., fire, safety, and rescue personnel, etc., and medical personnel, e.g., doctors, nurses, and paramedics, etc., in case of an emergency situation at FCC facilities without the subsequent notification to the individual identified in 5 U.S.C. 552a(b)(8).

3. Reconstitution Plan—A record from this system of records may be disclosed to the General Services Administration (GSA), the National Telecommunications and Information Administration (NTIA), the Department of Homeland Security (DHS), and Federal Emergency Management Agency (FEMA); District of Columbia, Virginia, and Maryland state government agencies; and any other Federal, state, and local agencies involved in Federal agency evacuation, emergency facilities, space management, and/or relocation policies and plans, or related issues.

4. Labor Relations—A record from this system may be disclosed to officials of labor organizations recognized under 5 U.S.C. chapter 71 upon receipt of a formal request and in accord with the conditions of 5 U.S.C. 7114 when relevant and necessary to their duties of exclusive representation concerning personnel policies, practices, and matters affecting working conditions.

5. Litigation—To disclose records to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

6. Adjudication—To disclose records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

7. Law Enforcement and Investigation—When the FCC investigates any violation or potential violation of a civil or criminal law, regulation, policy, executed consent decree, order, or any other type of compulsory obligation, to disclose pertinent information as it deems necessary to the target of an investigation, as well as with the appropriate Federal, State, local, Tribal, international, or multinational agencies, or a component of such an agency, responsible for investigating, prosecuting, enforcing, or implementing a statute, rule, regulation, order, or other requirement.

8. Congressional Inquiries—To provide information to a Congressional office from the record of an individual in response to an inquiry from that Congressional office made at the written request of that individual.

9. Government-wide Program Management and Oversight—To DOJ to obtain that Department's advice regarding disclosure obligations under the Freedom of Information Act (FOIA); or to OMB to obtain that office's advice regarding obligations under the Privacy Act.

10. Breach Notification—To appropriate agencies, entities, and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

11. Assistance to Federal Agencies and Entities Related to Breaches—To another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

12. Non-Federal Personnel—To disclose information to non-Federal personnel, including contractors, other vendors (e.g., identity verification services), grantees, and volunteers who have been engaged to assist the FCC in the performance of a contract, service, grant, cooperative agreement, or other activity related to this system of records and who need to have access to the records in order to perform their activity.

POLICIES AND PRACTICES FOR STORAGE OF RECORDS:

This an electronic system of records that resides on the FCC's or a vendor's network.

POLICIES AND PRACTICES FOR RETRIEVAL OF RECORDS:

Information in the electronic database can be retrieved by searching electronically for the FCC employee or contractor's name, workspace location, and organizational unit, e.g., bureau/office.

POLICIES AND PRACTICES FOR RETENTION AND DISPOSAL OF RECORDS:

The information in this electronic system is maintained and disposed of in accordance with the relevant NARA records schedules, including General Records Schedule (GRS) 5.1: Common Office Records, DAA-GRS-2016-0016; and GRS 5.3: Continuity and Emergency Planning Records, DAA-GRS-2016-0004.

ADMINISTRATIVE, TECHNICAL, AND PHYSICAL SAFEGUARDS:

The electronic records, files, and data are stored within FCC or a vendor's accreditation boundaries and maintained in a database housed in the FCC's or vendor's computer network databases. Access to the electronic and paper files is restricted to authorized employees and contractors; and in the case of electronic files to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST).

RECORD ACCESS PROCEDURES:

Individuals wishing to request access to and/or amendment of records about themselves should follow the Notification Procedures below.

CONTESTING RECORD PROCEDURES:

Individuals wishing to request access to and/or amendment of records about themselves should follow the Notification Procedures below.

NOTIFICATION PROCEDURES:

Individuals wishing to determine whether this system of records contains information about themselves may do so by writing to privacy@fcc.gov. Individuals requesting record access or amendment must also comply with the FCC's Privacy Act regulations regarding verification of identity as required under 47 CFR part 0, subpart E.

EXEMPTIONS PROMULGATED FOR THE SYSTEM:

None.

HISTORY:

(75 FR 56533) (September 16, 2010).

Federal Communications Commission.
Marlene Dortch,
Secretary.

[FR Doc. 2024-00340 Filed 1-9-24; 8:45 am]

BILLING CODE 6712-01-P